DEPARTMENT OF HEALTH AND HUMAN SERVICES

Administration for Children and Families

Grant to the Hebrew Immigrant Aid Society

AGENCY: Office of Refugee Resettlement (ORR), HHS.

ACTION: Grant Award Announcement.

SUMMARY: Notice is hereby given that an award is being made to the Hebrew Immigrant Aid Society of New York, in the amount of $850,000 to further the integration and self-sufficiency of recently arrived refugees by implementing programs to strengthen refugee families and marriages and to promote responsible fatherhood. The funds provided will be utilized to develop programs in 10 pilot sites. The period of this funding will extend through September 29, 2004.

After an appropriate review, it has been determined that the need for the cited services by this population is imperative and the applicant has over two hundred years of experience in resettling such refugees. The proposed activities—family strengthening programs for struggling refugee families—strongly support the Administration's defined goals. These programs reflect current social science research in family relationships and have a strong track record in successful outcomes in mainstream populations. Their extension to refugee populations will be a welcome addition to ORR's social services emphasis. No other grant program currently includes these programs.

FOR FURTHER INFORMATION CONTACT: Loren Bussert, Office of Refugee Resettlement, Administration for Children and Families, 370 L'Enfant Promenade, SW., Washington, DC 20447, telephone (202) 401-4732.

Dated: September 27, 2002.
Nguyen Van Hanh,
Director, Office of Refugee Resettlement.

[FR Doc. 02-25395 Filed 10-4-02; 8:45 am]

BILLING CODE 4184-01-M